DEPARTMENT OF COMMERCE

Technology Administration

Announcing a Public Workshop on Digital Entertainment and Rights Management

AGENCY: Technology Administration, Commerce.

ACTION: Notice of a public workshop.

SUMMARY: The United States Department of Commerce Technology Administration (TA) announces a public workshop on digital entertainment and its availability to consumers. The workshop will help gather data on such issues as the status of technical standards that provide the framework necessary to enable legitimate digital media distribution and the present state of strengths, weaknesses and availability of current and imminent technological solutions to protect digital content, barriers that are inhibiting movies, music and games from coming online.

DATES: This workshop will be held on July 17, 2002, from 1 p.m.-4 p.m.

ADDRESSES: The workshop will be held at the Herbert C. Hoover Building, 1401 Constitution Avenue, NW., Room 4830, Washington, DC. Entrance on 14th between Pennsylvania and Constitution Aves., NW.

FOR FURTHER INFORMATION CONTACT: Further information relevant to the substantive issues to be addressed by this workshop may be obtained from Chris Israel Deputy Assistant Secretary for Technology Policy, Technology Administration, (202) 482-5687. Limited seating will be available to members of the general public. It is recommended that persons wishing to become general public attendees arrive early, as seating will be first come, first served.

SUPPLEMENTARY INFORMATION: Pursuant to its statutory authority found at 15 U.S.C. 3704(c), the Technology Administration is authorized, among other things, to conduct technology policy analyses to improve United States industrial productivity, technology, and innovation, cooperate with United States industry in the improvement of its productivity, technology, and ability to compete successfully in world markets, and identify technological needs, problems, and opportunities within and across industrial sectors, that, if addressed, could make a significant contribution to the economy of the United States.

With these responsibilities in mind, the Technology Administration is planning on holding a moderated series of informal discussions with relevant stakeholders to gather information on the availability of digital entertainment and status of copyright protection and rights management tools. The discussions will help gather data on such issues as the strength, weaknesses and availability of technological solutions, as well as network capability, and the proper role for the Government in facilitating solutions that are best for innovation and best for consumers.

Topics to be addressed at the workshop include:

▸ The effectiveness of efforts to pursue technical standards or solutions that are designed to provide a more predictable and secure environment for digital transmission of copyright material;

▸ Major obstacles facing an open commercial exchange of digital content;

▸ What a future framework for success might entail;

▸ Current consumer attitude towards online entertainment.

The workshop will focus on these and other related issues. Anyone wishing to comment on these or raise related issues is free to do so, either in writing before the meeting, or in person at the meeting. Prior comments will be collected via the Technology Administration Web site— www.ta.doc.gov/<http://www.ta.doc.gov/.> and are requested by July 11, 2002.

Authority: This work effort is being initiated pursuant to TA's statutory responsibilities, codified at section 3704 of Title 15 of the United States Code.

Dated: June 28, 2002.
Phillip J. Bond,
Undersecretary of Commerce for Technology.

[FR Doc. 02-16740 Filed 7-2-02; 8:45 am]

BILLING CODE 3510-18-M